DEPARTMENT OF HEALTH AND HUMAN SERVICES

Centers for Disease Control and Prevention

[60Day-06-06AT]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

A Sustainability Assessment of Community-based Interventions in Northwestern Tanzania—New—National Center for Chronic Disease Prevention and Health Promotion (NCCDPHP), Coordinating Center for Health Promotion (CoCHP), Centers for Disease Control and Prevention (CDC).

Background and Brief Description

Empowerment and capacity building have been promoted by the Bamako Initiative as integral steps in making Primary Health Care (PHC) services universally available. Health Sector Reform programs since the early 1990s have built on the Bamako Initiative, drawing attention to the potential for community engagement in health services and health governance through mechanisms such as Community Health Funds. In many contexts community-focused approaches have been used to promote maternal and infant health, and community well-being.

In Tanzania, a community-based approach to improve maternal and newborn health (MNH) and reduce preventable maternal and perinatal deaths was implemented by CARE with CDC support from 1997-2002. This approach used a community-based surveillance system to identify preventable deaths during pregnancy and during the perinatal and newborn period, and developed a community mobilization program utilizing community volunteers to assist women and families with obstetrical emergencies to get to functioning health facilities. Specifically the initiative focused on increasing capacity for community members to identify and participate in decisions and strategies for providing health care services, and supporting prevention and health education through village health workers (VHWs).

Evaluation of this effort showed that the community members used the services successfully and supported their volunteers, but only a handful of these communities had programs in place that were functional at the end of the project in 2002. Since the end of project activities, the long-term sustainability of community-level efforts has not been assessed. Therefore, this proposed initiative presents a unique opportunity to examine long-term legacies of community-based programs, which is seldom done, but has the potential to inform community-focused programs and research in every context. Assessment of sustainability is critical for promoting community mobilization within the health care sector in resource poor settings such as northwestern Tanzania and potentially other such places where CARE and other organizations work.

The primary purpose of this proposal is an assessment of a program called the Community Based Reproductive Health Program (CBRHP). Of particular interest are the acceptance, relevance and sustainability of: (a) Volunteer village health workers efforts; (b) community-based maternal and peri-natal surveillance system; and (c) emergency medical transport systems in resource poor settings—some of the initiatives that were implemented in the first phase of the CBRHP managed by CARE during 1997-2002. Qualitative and quantitative methods will be used to conduct this assessment.

There are no costs to respondents except their time to participate in the survey.

Estimated Annualized Burden Table
Respondents | Number of respondents | Number of responses per respondent | Average burden per response (in hours) | Total burden (in hours)
Villagers | 200 | 1 | 1 | 200
Leaders | 40 | 2 | 45/60 | 60
Village health workers | 44 | 1 | 30/60 | 22
Facility staff | 15 | 2 | 30/60 | 15
Total | 299 |  |  | 297

Dated: February 10, 2006.
Joan F. Karr,
Acting Reports Clearance Officer, Centers for Disease Control and Prevention.

[FR Doc. 06-1513 Filed 2-16-06; 8:45 am]

BILLING CODE 4163-18-P